DEPARTMENT OF HOUSING AND URBAN DEVELOPMENT

[Docket No. FR-7034-N-35]

30-Day Notice of Proposed Information Collection: Application for Roster Personnel (Appraisers) Designation and Appraisal Reports, OMB Control No.: 2502-0538

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 30, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, U.S. Department of Housing and Urban Development, 451 7th Street SW, Room 4176, Washington, DC 20410-5000; telephone 202-402-3400 (this is not a toll-free number) or email at Colette.Pollard@hud.gov. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A. The Federal Register notice that solicited public comment on the information collection for a period of 60 days was published on February 8, 2021 at 86 FR 8652.

A. Overview of Information Collection

Title of Information Collection: Application for Fee or Roster Personnel (Appraisers) Designation and Appraisal Reports.

OMB Approval Number: 2502-0538.

Type of Request: Extension.

Form Number: HUD 92563-A, HUD 92564-CN, Fannie Mae Forms: 1004, 1004C, 1004D, 1004MC, 1025, and 1073.

Description of the need for the information and proposed use: Accurate and thorough Appraisal reporting is critical in determining eligibility of a property that will be collateral for FHA-insured financing. The collection allows HUD to maintain an effective appraisal program with the ability to maintain sufficient oversight of its Roster Appraisers and to inform prospective homeowners, seeking FHA-insured financing, of the benefits of obtaining an independent home inspection.

Respondents: Business or other for profit.

Estimated Number of Respondents: 22,345.

Estimated Number of Responses: 495,676.

Frequency of Response: On occasion.

Average Hours per Response: .56.

Total Estimated Burdens: $843,541.

The public comment period for the notice published on February 8, 2021, closed on April 9, 2021.

Summary of Form HUD-92564-CN Comments and HUD Responses:

Comment: A commenter expressed concern that a section of a disclosure statement on the form that the qualified home inspector “will . . . estimate the remaining useful life of the major systems, equipment, structure and finishes” does not accurately state the scope of a home inspection and should be replaced with “will. . .report systems and components that appear to be near the end of their service lives”.

HUD Response: HUD clarified the statement by incorporating the recommended replacement language.

Comment: A commenter encouraged HUD to implement efforts to expand portals for delivering form HUD-92564-CN: For Your Protection: Get a Home Inspection message as widely as possible, by all existing and evolving methods, to as many prospective homebuyers as possible, and to prospective buyers likely to enter the home buying market in the foreseeable future.

HUD Response: HUD continues to utilize electronic and digital methods as well as paper versions to disseminate the English and Spanish versions of form HUD 92564-CN, For Your Protection: Get a Home Inspection to prospective home buyers through real estate brokers and any conceivable means. The form is also available in English and Spanish on HUD website and is accessible by real estate brokers, mortgage originators and prospective homebuyers. There is no cost associated with accessing the form and the website is available 24 hours a day, 7 days per week. Additionally, HUD has incorporated Form HUD-92564-CN, For Your Protection: Get a Home Inspection into its origination and processing policy described in the Single Family Housing Policy Handbook 4000.1 and requires Mortgagees to provide the form to prospective homebuyers at first contact, be it for pre-qualification, pre-approval, or initial application.

B. Solicitation of Public Comment

This notice is soliciting comments from members of the public and affected parties concerning the collection of information described in Section A and more specifically regarding:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other form of information technology, e.g., permitting electronic submission of responses. HUD encourages interested parties to submit comment in response to these questions.

(5) ways to minimize the burden of the collection of information on those who are respond, including the use of automated collection techniques or other forms of information technology.

Authority

Section 3507 of the Paperwork Reduction Act of 1995, 44 U.S.C. chapter 35.

The public comment period for the notice published on February 8, 2021, closed on April 9, 2021.

Colette Pollard,
Department Reports Management Officer, Office of the Chief Information Officer.

[FR Doc. 2021-13954 Filed 6-29-21; 8:45 am]

BILLING CODE 4210-67-P